DEPARTMENT OF ENERGY

Federal Energy Regulatory Commission

[Docket No. EC05-65-000, et al.]

ITC Holdings Corp., et al., Electric Rate and Corporate Filings

March 31, 2005.

The following filings have been made with the Commission. The filings are listed in ascending order within each docket classification.

1. ITC Holdings Corp. and International Transmission Company

[Docket No. EC05-65-000]

Take notice that on March 30, 2005, ITC Holdings Corp. (ITC Holdings) and International Transmission Company (International Transmission) (collectively, Applicants) filed with the Federal Energy Regulatory Commission (Commission) a joint application for authorization of a disposition of jurisdictional facilities under section 203 of the Federal Power Act and notification of change in ownership structure, as required under ITC Holdings Corp., et al., 102 FERC ¶ 61,182 at P 44 (2003), reh'g denied, 104 FERC ¶ 61,033 (2003). Applicants also request that the Commission confirm that International Transmission will remain independent from any Market Participant following public offering of the stock of its parent, ITC Holdings.

Comment Date: 5 p.m. eastern time on April 13, 2005.

2. South Jersey Energy Company

[Docket No. ER97-1397-012]

Take notice that on March 24, 2005, South Jersey Energy Company filed an amendment to its market-based rate tariff to reflect the change-in-status reporting requirement adopted in Order No. 652, Reporting Requirement for Changes in Status for Public Utilities with Market-Based Rate Authority, Order No. 652, 110 FERC ¶ 61,097 (2005).

Comment Date: 5 p.m. eastern time on April 14, 2005.

3. South Jersey Energy Company

[Docket No. ER97-1397-013]

Take notice that on March 24, 2005, South Jersey Energy Company tendered for filing an updated generation market power analysis in compliance with the Commission's order in Acadia Power Partners, L.L.C., 107 FERC ¶ 61,168 (2004).

South Jersey Energy Company states that copies of the filing were served on parties on the official service list in the above-captioned docket.

Comment Date: 5 p.m. eastern time on April 14, 2005.

4. Elkem Metals Company—Alloy L.P.

[Docket No. ER00-2093-002]

Take notice that on March 24, 2005, Elkem Metals Company—Alloy L.P. (Elkem-Alloy) submitted its market power update in compliance with the Commission's May 13, 2004 in Acadia Power Partners, LLC, 107 FERC ¶ 61,168 (2004).

Elkem-Alloy states that copies of the filing were served on parties on the official service list in the captioned proceedings.

Comment Date: 5 p.m. eastern time on April 14, 2005.

5. Elkem Metals Company—Alloy L.P.

[Docket No. ER00-2093-003]

Take notice that on March 24, 2005, Elkem Metals Company—Alloy L.P. (Elkem-Alloy) submitted for filing revisions to its FERC Electric Tariff, Second Revised Volume No. 1 to reflect the change-in-status reporting requirement adopted in Order No. 652, Reporting Requirement for Changes in Status for Public Utilities with Market-Based Rate Authority, 110 FERC ¶ 61,097 (2005).

Elkem-Alloy states that it has served copies of this filing on parties on the official service list.

Comment Date: 5 p.m. eastern time on April 14, 2005.

6. Northern Indiana Public Service Company, EnergyUSA-TPC Corp., Whiting Clean Energy, Inc.

[Docket Nos. ER00-2173-004, ER00-3219-004, and ER01-1300-005]

Take notice that on March 28, 2005, Northern Indiana Public Service Company, EnergyUSA-TPC Corp., (NISPCO) and Whiting Clean Energy, Inc. (the NiSource Companies) tendered for filing certain workpapers and spreadsheets regarding their updated market power analysis filed on February 8, 2005.

Comment Date: 5 p.m. eastern time on April 7, 2005.

7. Naniwa Energy LLC

[Docket No. ER01-457-004]

Take notice that on March 24, 2005, Naniwa Energy LLC (Naniwa) submitted an amendment to its FERC Rate Schedule No. 1 to reflect the change-in-status reporting requirement adopted in the Commission's Order No. 652, Reporting Requirement for Changes in Status for Public Utilities with Market-Based Rate Authority, 110 FERC ¶ 61,097 (2005).

Naniwa states that copies of the filing were served on parties on the official service list in this proceeding.

Comment Date: 5 p.m. eastern time on April 14, 2005.

8. Power Contract Finance, L.L.C.

[Docket No. ER02-1485-006]

Take notice that on March 24, 2005, Power Contract Finance, L.L.C. (PCF) submitted an amendment to its FERC Rate Schedule No. 1 to reflect the change-in-status reporting requirement adopted in the Commission's Order No. 652, Reporting Requirement for Change in Status for Public Utilities with Market-Based Rate Authority, 110 FERC ¶ 61,097 (2005).

PCF states that copies of the filing were served on parties on the official service list.

Comment Date: 5 p.m. eastern time on April 14, 2005.

9. MS Retail Development Corp.

[Docket No. ER03-1315-004]

Take notice that, on March 24, 2005, MS Retail Development Corp. (MS Retail) submitted an amendment to its FERC Rate Schedule No. 1 to reflect the change-in-status reporting requirement adopted in the Commission's Order No. 652, Reporting Requirement for Change in Status for Public Utilities with Market-Based Rate Authority, 110 FERC ¶ 61,097 (2005).

MS Retail states that copies of the filing were served on parties on the official service list.

Comment Date: 5 p.m. eastern time on April 14, 2005.

10. Williams Power Company, Inc., Williams Energy Marketing & Trading Company, Williams Generation Company—Hazleton, Williams Flexible Generation, LLC

[Docket Nos. ER03-1331-004, ER99-1722-005, ER97-4587-006 and ER00-2469-003]

Take notice that on March 24, 2005, Williams Power Company, Inc. (Williams Power), Williams Energy Marketing & Trading Company, Williams Generation Company—Hazleton (Williams Hazleton) and Williams Flexible Generation, LLC (Williams Flex Generation) submitted their joint triennial market power update pursuant to Acadia Power Partners, L.L.C. 107 FERC ¶ 61,168 (2004) and AEP Power Marketing, Inc., 107 FERC ¶ 61,018 (2004). Williams Power, Williams Hazleton and Williams Flex Generation also submitted revised tariff sheets reflecting the change in status reporting requirement adopted by the Commission in Order No. 652, Reporting Requirements for Changes in Status for Public Utilities with Market-Based Rate Authority, 110 FERC ¶ 61,097 (2005).

Comment Date: 5 p.m. eastern time on April 14, 2005.

11. Progress Ventures, Inc.

[Docket No. ER05-391-001]

Take notice that on March 24, 2005, Progress Ventures, Inc. (Progress Ventures), in response to the Commission's deficiency letter issued February 24, 2005, submitted an amendment to its December 29, 2004, filing for a cost-based power sales tariff for Progress Ventures to permit short-term sales of capacity and energy by Progress Ventures in Florida at the same price at which Progress Ventures purchases the power. Progress Ventures requests an effective date of June 14, 2004.

Progress Ventures states that copies of the filing were served upon the Florida Public Service Commission, the North Carolina Utilities Commission and affected customers.

Comment Date: 5 p.m. eastern time on April 14, 2005.

12. Carolina Power & Light Company

[Docket No. ER05-722-000]

Take notice that on March 24, 2005, Carolina Power & Light Company, filed revisions to a Power Supply Agreement between North Carolina Electric Membership Corporation (NCEMC) and Progress Energy Carolinas, Inc., Rate Schedule FERC No. 134. Carolina Power and Light Company request an effective date of January 1, 2001.

Carolina Power and Light Company states that copies of the filing were served upon NCEMC, the North Carolina Utilities Commission and the South Carolina Public Service Commission.

Comment Date: 5 p.m. eastern time on April 14, 2005.

13. PJM Interconnection, L.L.C.

[Docket No. ER05-724-000]

Take notice that on March 24, 2005, PJM Interconnection, L.L.C. (PJM) and Duquesne Light Company (Duquesne) (together, Applicants) tendered for filing an amended network integration service agreement between PJM and Allegheny Power.

Applicants state that copies of the filing were served upon Allegheny Power and the state commissions in the Allegheny Power region.

Comment Date: 5 p.m. eastern time on April 14, 2005.

Deephaven RV Sub Fund Ltd.

[Docket No. ER05-725-000]

Take notice that on March 24, 2005, Deephaven RV Sub Fund Ltd. (Deephaven) submitted for filing, pursuant to section 205 of the Federal Power Act, and part 35 of the Commission's regulations, an application for authorization to make sales, as a power marketer, of capacity, energy, and certain Ancillary Services at market-based rates; to reassign transmission capacity; and to resell firm transmission rights. Deephaven further requests certain waiver and blanket authorizations under Commission regulations. Deephaven requests an effective date for its proposed rate schedule of April 25, 2005.

Comment Date: 5 p.m. eastern time on April 14, 2005.

15. CPN Pleasant Hill Operating, LLC

[Docket No. ER05-726-000]

Take notice that on March 24, 2005, CPN Pleasant Hill Operating, LLC filed a Notice of Cancellation of its Rate Schedule FERC No. 1 and Service Agreement Nos. 1 and 2.

Comment Date: 5 p.m. eastern time on April 14, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1605 Filed 4-6-05; 8:45 am]

BILLING CODE 6717-01-P